DEPARTMENT OF HEALTH AND HUMAN SERVICES

Centers for Disease Control and Prevention

[60Day-24-24CR; Docket No. CDC-2024-0011]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Global Public Health Data Innovation Performance Monitoring. This data collection is designed to help government decision makers gather timely, accurate, and comprehensive public health data to effectively prevent, detect, and respond to public health threats.

DATES: CDC must receive written comments on or before April 9, 2024.

ADDRESSES: You may submit comments, identified by Docket No. CDC-2024-0011 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Global Public Health Data Innovation (GPHDI) Performance Monitoring—New—Global Health Center (GHC), Centers for Disease Control and Prevention (CDC).

Background and Brief Description

The Global Public Health Data Innovation (GPHDI) initiative, led by the Centers for Disease Control and Prevention (CDC), aims to equip government decision makers with timely, accurate, and comprehensive public health data to effectively prevent, detect, and respond to public health threats. Challenges, such as limited data access, non-standardization, workforce limitations, and gaps in data systems and governance, often hinder the optimal use of data in public health response efforts. To overcome these challenges, GPHDI focuses on strengthening global outbreak response, pandemic preparedness, and surveillance through improved data availability and utilization. This is achieved by modernizing data systems and processes at all levels.

GPHDI is made possible by the American Rescue Plan Act passed by the Congress in 2021 and is rooted in key strategic pillars within CDC, namely the Data Modernization Initiative (DMI) and the Global Digital Health Strategy (GDHS). DMI is an agency-wide initiative aimed at improving data systems infrastructure within the United States. It offers valuable insights and artifacts that can be adapted and leveraged for the global context of the GPHDI initiative. The goal of DMI is to get better, faster, actionable insights for decision making at all levels of public health. Complementing this, the GDHS incorporates inputs from a multi-partner engagement process, enhancing the strategic approach of the initiative.

GPHDI is a current three-year investment that builds on an existing foundation laid by various country governments, donor agencies, and multilateral organizations. This investment is specifically allocated to advance the initiative in 10 selected countries, including Kenya, Sierra Leone, Uganda, and Zambia in Africa; Colombia and Paraguay in the South American Region; Georgia and Ukraine in Eastern Europe; Thailand in the Central Asia Region; and Honduras in the Central American Region. This data collection is aimed at monitoring and assessing the contributions of current GPHDI investments in data modernization and digital public health infrastructure towards improving data availability to prevent, detect, and respond to public health threats in the selected countries. The indicators to be collected include both structured response-type questions (Yes-No answers, coded answers) and narrative response-type questions. CDC contractors, RTI International (RTI) will conduct the interviews and CDC funded implementing partners (IPs) monitoring and evaluation (M&E) point of contacts will provide responses to the indicators based on their funded activities. RTI will document the responses from the interviews using CDC RedCap. Interviews will be conducted in a live one-on-one session between RTI and identified M&E point of contacts at the funded IPs. No patient-level or individual level or identifiable data will be collected for this project.

CDC requests OMB approval for an estimated 64 annual burden hours. Respondents will be responding to this data collection as a part of the organizations' funding requirements and obligation. There is no cost to respondents other than their time to participate.

Estimated Annualized Burden Hours
Type of respondents | Form name | Number of respondents | Number of responses per respondent | Average burden per response (in hours) | Total burden (in hours)
Implementing partners (Monitoring and evaluation point of contacts) | Monitoring question guide | 32 | 1 | 2 | 64
|  |  |  |  | 64

Jeffrey M. Zirger,
Lead, Information Collection Review Office, Office of Public Health Ethics and Regulations, Office of Science, Centers for Disease Control and Prevention.

[FR Doc. 2024-02683 Filed 2-8-24; 8:45 am]

BILLING CODE 4163-18-P